NUCLEAR REGULATORY COMMISSION

[Docket No. 72-17; NRC-2019-0165]

Portland General Electric Company; Eugene Water and Electric Board, and PacifiCorp; Trojan Independent Spent Fuel Storage Installation

AGENCY: Nuclear Regulatory Commission.

ACTION: License renewal; issuance; correction.

SUMMARY: The U.S. Nuclear Regulatory Commission (NRC) issued a renewed license to Portland General Electric (PGE), Eugene Water and Electric Board, and PacifiCorp (together “licensee”) for Special Nuclear Materials (SNM) License No. SNM-2509 for the receipt, possession, transfer, and storage of spent fuel from the Trojan Nuclear Plant in the Trojan Independent Spent Fuel Storage Installation (ISFSI), located in Columbia County, Oregon on August 9, 2019. On October 23, 2019, the renewed license and technical specifications were corrected to reflect the current amendment and to remove obsolete pages from the technical specifications.

DATES: November 26, 2019.

ADDRESSES: Please refer to Docket ID NRC-2019-0165 when contacting the NRC about the availability of information regarding this document. You may obtain publicly-available information related to this document using any of the following methods:

• Federal Rulemaking website: Go to https://www.regulations.gov and search for Docket ID NRC-2019-0165. Address questions about NRC dockets IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: Christopher T. Markley, Office of Nuclear Material Safety and Safeguards, U.S. Nuclear Regulatory Commission, Washington DC 20555-0001; telephone: 301-415-6293, email: Christopher.Markley@nrc.gov.

SUPPLEMENTARY INFORMATION:

I. Discussion

Based upon the application dated March 23, 2017, as supplemented January 29, 2019, and February 21, 2019, and June 10, 2019, the NRC issued a renewed license to the licensee for the Trojan ISFSI, located in Columbia County, Oregon. The renewed license SNM-2509 authorizes and requires operation of the Trojan ISFSI in accordance with the provisions of the renewed license and its technical specifications. Issuance of the renewed license was noticed in the Federal Register on August 16, 2019 (84 FR 42023). The renewed license and technical specifications were corrected to reflect the current amendment and to remove obsolete pages from the technical specifications. The renewed license, as corrected, will expire on March 31, 2059.

II. Availability of Documents

The following table includes the ADAMS accession numbers for the documents referenced in this notice. For additional information on accessing ADAMS, see the ADDRESSES section of this document.

Document | ADAMS Accession No.
Licensee's application, dated March 23, 2017 | ML17086A039.
Response to First Request for Additional Information, dated January 23, 20197 | ML19028A411.
Response to Request for Referenced Information, dated February 21, 2019 | ML19057A148.
Response to Request for Referenced Information, dated June 10, 2019 | ML19164A182.
Special Nuclear Materials License No. SNM-2509 | ML19221B649.
Special Nuclear Materials License No. SNM-2509 (Corrected) | ML19296B636.
SNM-2507 2509 Technical Specifications | ML19221B650.
SNM-2507 2509 Technical Specifications (Corrected) | ML19296B637.
NRC Safety Evaluation Report | ML19221B651.
NRC Environmental Assessment | ML19169A054.
NUREG-2157, “Generic Environmental Impact Statement for Continued Storage of Spent Fuel” Volumes 1 and 2 | ML14196A105. ML14196A107.

Dated at Rockville, Maryland, this 20th day of November 2019.
For the Nuclear Regulatory Commission.
Meraj Rahimi,
Chief, Materials and Structural Branch, Division of Fuel Management, Office of Nuclear Material Safety and Safeguards.

[FR Doc. 2019-25608 Filed 11-25-19; 8:45 am]

BILLING CODE 7590-01-P